DEPARTMENT OF TRANSPORTATION

Federal Aviation Administration

14 CFR Part 39

[Docket No. FAA-2012-0801; Directorate Identifier 2012-NM-106-AD; Amendment 39-17212; AD 2012-20-06]

RIN 2120-AA64

Airworthiness Directives; The Boeing Company Airplanes

AGENCY: Federal Aviation Administration (FAA), DOT.

ACTION: Final rule.

SUMMARY: We are adopting a new airworthiness directive (AD) for certain The Boeing Company Model 737-200 and -200C series airplanes. This AD was prompted by a report of elevator vibration and bearing swage failures. This AD requires, for certain airplanes, repetitive inspections for any discrepancies (such as a gap or a loose spacer) of the aft attach lugs for the elevator tab control mechanism, and replacement if necessary; and, for other airplanes, contacting the FAA for inspection or repair instructions and doing the work specified in those instructions. We are issuing this AD to detect and correct discrepancies in the aft attach lugs for the elevator tab control mechanism, which could result in elevator and tab vibration. Consequent structural failure of the elevator or horizontal stabilizer could result in loss of structural integrity and loss of airplane control.

DATES: This AD is effective November 21, 2012.

The Director of the Federal Register approved the incorporation by reference of a certain publication listed in the AD as of November 21, 2012.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate; 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Kelly McGuckin, Aerospace Engineer, Systems and Equipment Branch, ANM-130S, FAA, Seattle Aircraft Certification Office, 1601 Lind Avenue SW., Renton, WA 98057-3356; phone: (425) 917-6490; fax: (425) 917-6590; email: Kelly.McGuckin@faa.gov.

SUPPLEMENTARY INFORMATION:

Discussion

We issued a notice of proposed rulemaking (NPRM) to amend 14 CFR part 39 to include an AD that would apply to the specified products. That NPRM published in the Federal Register on August 1, 2012 (77 FR 45513). That NPRM proposed to require, for certain airplanes, repetitive inspections for any discrepancies (such as a gap or a loose spacer) of the aft attach lugs for the elevator tab control mechanism, and replacement if necessary; and, for other airplanes, contacting the FAA for inspection or repair instructions and doing the work specified in those instructions.

Comments

We gave the public the opportunity to participate in developing this AD. We have considered the comment received. Boeing supports the NPRM (77 FR 45513, August 1, 2012).

Conclusion

We reviewed the relevant data, considered the comments received, and determined that air safety and the public interest require adopting the AD as proposed except for minor editorial changes. We have determined that these minor changes:

• Are consistent with the intent that was proposed in the NPRM (77 FR 45513, August 1, 2012) for correcting the unsafe condition; and

• Do not add any additional burden upon the public than was already proposed in the NPRM (77 FR 45513, August 1, 2012).

Costs of Compliance

We estimate that this AD affects 200 airplanes of U.S. registry.

We estimate the following costs to comply with this AD:

Estimated Costs
Action | Labor cost | Parts cost | Cost per product | Cost on U.S. operators
Inspection for Group 2 airplanes | 7 work-hours × $85 per hour = $595 per inspection cycle | $0 | $595 per inspection cycle | $119,000 per inspection cycle.

For Group 1 airplanes, we do not have definitive data that would enable us to provide cost estimates for the action specified in this AD.

We estimate the following costs to do any necessary replacements that would be required based on the results of the inspection. We have no way of determining the number of aircraft that might need these replacements:

On-Condition Costs
Action | Labor cost | Parts cost | Cost per product
Replacement of a mechanism | 7 work-hours × $85 per hour = $595 | $29,289 | $29,884

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-20-06 The Boeing Company: Amendment 39-17212; Docket No. FAA-2012-0801; Directorate Identifier 2012-NM-106-AD.

(a) Effective Date

This AD is effective November 21, 2012.

(b) Affected ADs

None.

(c) Applicability

This AD applies to The Boeing Company Model 737-200 and -200C series airplanes, certificated in any category; as identified in Boeing Alert Service Bulletin 737-27A1302, dated April 24, 2012.

(d) Subject

Joint Aircraft System Component (JASC)/Air Transport Association (ATA) of America Code 27, Flight Controls.

(e) Unsafe Condition

This AD was prompted by a report of elevator vibration and bearing swage failures. We are issuing this AD to detect and correct discrepancies in the aft attach lugs for the elevator tab control mechanism, which could result in elevator and tab vibration. Consequent structural failure of the elevator or horizontal stabilizer could result in loss of structural integrity and loss of airplane control.

(f) Compliance

Comply with this AD within the compliance times specified, unless already done.

(g) Actions for Group 1 Airplanes

For Group 1 airplanes as identified in Boeing Alert Service Bulletin 737-27A1302, dated April 24, 2012: Within 1,500 flight cycles or 2,000 flight hours after the effective date of this AD, whichever occurs first, inspect the left and right elevator tab control mechanisms, and repair or replace as applicable, in accordance with a method approved by the Manager, Seattle Aircraft Certification Office (ACO), FAA. For a repair method to be approved, the repair must meet the certification basis of the airplane, and the approval must specifically refer to this AD.

(h) Inspection for Group 2 Airplanes

For Group 2 airplanes as identified in Boeing Alert Service Bulletin 737-27A1302, dated April 24, 2012: Within 1,500 flight cycles or 2,000 flight hours after the effective date of this AD, whichever occurs first, do a detailed inspection for any discrepancies of the inboard and outboard aft attach lugs of the left and right elevator tab control mechanisms, in accordance with the Accomplishment Instructions of Boeing Alert Service Bulletin 737-27A1302, dated April 24, 2012. Repeat the detailed inspection thereafter at intervals not to exceed 1,500 flight cycles or 2,000 flight hours, whichever occurs first.

(i) Corrective Actions for Paragraph (h) of This AD

If any discrepancy is found during any inspection required by paragraph (h) of this AD, before further flight, replace the discrepant elevator tab control mechanism with a non-discrepant mechanism by doing the actions specified in paragraphs (i)(1) and (i)(2) of this AD.

(1) Do a detailed inspection for discrepancies of the replacement elevator tab control mechanism; and, if no discrepancy is found, before further flight, install the replacement elevator tab control mechanism; in accordance with the Accomplishment Instructions of Boeing Alert Service Bulletin 737-27A1302, dated April 24, 2012. If any discrepancy is found in that mechanism, then that mechanism may not be installed.

(2) Repeat the inspection on the installed replacement elevator tab control mechanism in accordance with the requirements of paragraph (h) of this AD.

(j) Inspection Report

Submit a report of the findings (both positive and negative) of the initial inspection required by paragraph (h) of this AD to Boeing Commercial Airlines Group, Attention: Manager, Airline Support, email: rse.boecom@boeing.com; at the applicable time specified in paragraph (j)(1) or (j)(2) of this AD. The report must include the inspection results, a description of any discrepancies found, the airplane serial number, and the number of landings and flight hours on the airplane.

(1) If the inspection was done after the effective date of this AD: Submit the report within 30 days after the inspection.

(2) If the inspection was accomplished prior to the effective date of this AD: Submit the report within 30 days after the effective date of this AD.

(k) Parts Installation Limitations

As of the effective date of this AD, no person may install an elevator tab control mechanism assembly, part number 65-79425-2, -3, -4, -5, or -6, on any airplane, unless the assembly has been inspected in accordance with paragraph (i) of this AD both before and after installation.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(n) Related Information

For more information about this AD, contact Kelly McGuckin, Aerospace Engineer, Systems and Equipment Branch, ANM-130S, FAA, Seattle Aircraft Certification Office, 1601 Lind Avenue SW., Renton, WA 98057-3356; phone: (425) 917-6490; fax: (425) 917-6590; email: Kelly.McGuckin@faa.gov.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 737-27A1302, dated April 24, 2012.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate; 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 28, 2012.
Ali Bahrami,
Manager, Transport Airplanes Directorate, Aircraft Certification Service.

[FR Doc. 2012-24949 Filed 10-16-12; 8:45 am]

BILLING CODE 4910-13-P